DEPARTMENT OF HOMELAND SECURITY

Federal Emergency Management Agency

44 CFR Part 67

Final Flood Elevation Determinations

AGENCY: Federal Emergency Management Agency, DHS.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: William R. Blanton, Jr., Engineering Management Branch, Mitigation Directorate, Federal Emergency Management Agency, 500 C Street, SW., Washington, DC 20472, (202) 646-3151.

SUPPLEMENTARY INFORMATION: The Federal Emergency Management Agency (FEMA) makes the final determinations listed below for the modified BFEs for each community listed. These modified elevations have been published in newspapers of local circulation and ninety (90) days have elapsed since that publication. The Assistant Administrator of the Mitigation Directorate has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

—
Flooding source(s) | Location of referenced elevation | * Elevation in feet (NGVD) + Elevation in feet (NAVD) # Depth in feet above ground Modified | Communities affected
Jackson County, Alabama, and Incorporated Areas | Docket No.: FEMA-B-7744
Bengis Creek Tributary | 1,180 feet upstream from County Route 85 | +614 | City of Stevenson.
| 1,195 feet upstream from County Route 85 | +614
Crow Creek | 240 feet upstream from John T Reid Parkway | +607 | City of Stevenson.
| 790 feet upstream from County Route 53 | +610
Dry Creek | 2,300 feet upstream from Snodgrass Road | +608 | Unincorporated Areas of Jackson County, City of Scottsboro.
| 25 feet downstream from Southern Railway | +622
Guntersville Lake | 8,810 feet upstream from Goosepond Drive | +598
| 4,900 feet downstream from Goosepond Drive | +598
Little Paint Creek | 80 feet downstream from County Route 108 | +589 | Unincorporated Areas of Jackson County, City of Bridgeport.
| 50 feet upstream from County Route 108 | +591
Tennessee River | 1,300 feet downstream from Railroad | +612
| 6,020 feet downstream from Railroad | +612
Town Creek | 4,310 feet upstream from County Route 33 | +605 | Unincorporated Areas of Jackson County.
| 4,320 feet upstream from County Route 33 | +605
* National Geodetic Vertical Datum.
+ North American Vertical Datum.
# Depth in feet above ground.
ADDRESSES
City of Bridgeport
Maps are available for inspection at 116 Jim Thomas Avenue, Bridgeport, AL 35740.
City of Scottsboro
Maps are available for inspection at 916 S. Broad Street, Scottsboro, AL 35768.
City of Stevenson
Maps are available for inspection at 104 Kentucky Avenue, Stevenson, AL 35772.
Unincorporated Areas of Jackson County
Maps are available for inspection at 102 E. Laurel Street, Suite 47, Scottsboro, AL 35768.
Camden County, Georgia, and Incorporated Areas | Docket No.: FEMA-B-7755
St. Marys River | At the Charlton/Nassau/Camden County Boundary | +8 | Unincorporated Areas of Camden County.
| Approximately 460 feet downstream of the Charlton/Nassau/Camden County Boundary | +8
* National Geodetic Vertical Datum.
+ North American Vertical Datum.
# Depth in feet above ground.
ADDRESSES
Unincorporated Areas of Camden County
Maps are available for inspection at Camden County Planning and Building Department, 107 Gross Road, Suite 3, Kingsland, GA 31548.
Cobb County, Georgia, and Incorporated Areas | Docket No.: FEMA-B-7753
Allatoona Branch | Approximately 700 feet upstream of confluence of Allatoona Creek | +985 | Unincorporated Areas of Cobb County.
| Approximately 75 feet upstream of Holland Rd | +1019
Allatoona Creek | Approximately 625 feet upstream of County Line Rd | +862 | Unincorporated Areas of Cobb County.
| Approximately 1,625 feet upstream of Holland Rd | +1070
Bishop Creek | Just upstream of confluence with Sope Creek | +911 | Unincorporated Areas of Cobb County.
| Just upstream of Seven Springs Circle | +979
Blackjack Creek | Just upstream of confluence with Sope Creek | +999 | Unincorporated Areas of Cobb County, City of Marietta.
| Just upstream of Lightfoot Circle | +1065
Butler Creek | Approximately 1,375 feet upstream of Nance Rd | +862 | Unincorporated Areas of Cobb County, City of Acworth, City of Kennesaw.
| Approximately 600 feet downstream of Sumit Wood Drive | +1024
Campgound Creek | Just upstream of confluence with Sope Creek | +931 | Unincorporated Areas of Cobb County.
| Approximately 800 feet upstream of Roswell Road | +1057
Concord Creek | Approximately 50 feet upstream of Covered Bridge Road | +897 | Unincorporated Areas of Cobb County.
| Approximately 650 feet downstream of Durrell Street | +1014
Cooper Lake Creek | Approximately 550 feet downstream of East West Connector | +825 | Unincorporated Areas of Cobb County, City of Smyrna.
| Approximately 100 feet upstream of Gann Road | +892
Due West Creek | Approximately 300 feet downstream of Hadaway Road | +896 | Unincorporated Areas of Cobb County.
| Approximately 1,100 feet downstream of Butterfield Road | +988
Eastside Creek | Just upstream of Confluence with Sope Creek | +920 | Unincorporated Areas of Cobb County.
| Just downstream of Greenview Drive | +965
Elizabeth Branch | Just upstream of the confluence with Sope Creek | +1000 | Unincorporated Areas of Cobb County, City of Marietta.
| Approximately 1,750 feet upstream of Interstate 75 | +1082
Favor Creek | Approximately 1,025 feet upstream of confluence of Nickajack Creek | +917 | Unincorporated Areas of Cobb County.
| Approximately 1,225 feet downstream of Favor Road | +987
Hope Creek | Just upstream of confluence with Rottenwood Creek | +940 | Unincorporated Areas of Cobb County, City of Marietta.
| Approximately 1,100 feet upstream of Interstate 75 | +1004
Laurel Creek | Approximately 375 feet upstream of Norfolk Southern Corporation railroad | +807 | Unincorporated Areas of Cobb County, City of Smyrna.
| Approximately 150 feet downstream of Dunn Street | +986
Liberty Hill Branch | Approximately 400 feet upstream of Monarch Valley Walk | +770 | Unincorporated Areas of Cobb County.
| Approximately 950 feet upstream of Blackhawk Trail | +914
Little Allatoona Creek | Approximately 1,875 feet upstream of Old Stilesboro Road | +896 | Unincorporated Areas of Cobb County.
| Approximately 925 feet upstream of Fernstone Road | +932
Little Noonday Creek | Approximately 1,925 feet upstream of confluence of Noonday Creek | +906 | Unincorporated Areas of Cobb County.
| Approximately 1,325 feet upstream of Almon Drive | +1007
Lost Mountain Creek | At Confluence with Wildhorse Creek | +907 | City of Powder Springs.
| Approximately 1,850 feet upstream of the confluence with Wildhorse Creek | +907
Luther Ward Creek | Approximately 1,525 feet upstream of confluence of Mud Creek | +920 | Unincorporated Areas of Cobb County.
| Approximately 1,700 feet upstream of Luther Ward Road | +963
Milam Branch | Approximately 700 feet upstream of confluence of Queen Creek | +914 | Unincorporated Areas of Cobb County.
| Approximately 50 feet downstream of Lone Oak Drive | +1010
Mill Creek No. 1 | Approximately 250 feet upstream of the confluence of Powder Springs Creek | +942 | Unincorporated Areas of Cobb County.
| Just downstream of Poplar Springs Road | +1001
Mill Creek No. 2 | Approximately 2,000 feet upstream of confluence of Nickajack Creek | +908 | Unincorporated Areas of Cobb County.
| Approximately 100 feet upstream of Hicks Road | +965
Morgan Lake Tributary | Just upstream of Rio Montana Drive | +947 | Unincorporated Areas of Cobb County.
| Approximately 300 feet downstream of Morgan Lake Dam | +986
Mud Creek | Approximately 1,600 feet upstream of confluence of Nose Creek | +912 | Unincorporated Areas of Cobb County.
| Approximately 250 feet downstream of Gordon Combs Road | +1024
Nickajack Creek | Approximately 2,550 feet downstream of Veterans Memorial Highway | +767 | Unincorporated Areas of Cobb County, City of Smyrna.
| Approximately 200 feet upstream of Cobb Drive | +1047
Noonday Creek | Approximately 175 feet upstream of Shallowford Road | +904 | Unincorporated Areas of Cobb County, City of Kennesaw, City of Marietta.
| Approximately 325 feet upstream of New Salem Road | +1025
Noonday Tributary No. 3 | Approximately 1,125 feet upstream of confluence of Noonday Creek | +928 | Unincorporated Areas of Cobb County, City of Marietta.
| Approximately 350 feet downstream Dickson Road | +1051
Noonday Tributary No. 7 | Approximately 425 feet upstream of confluence of Noonday Creek | +953 | Unincorporated Areas of Cobb County.
| Approximately 1,500 feet downstream of Club Drive | +995
Noses Creek | Approximately 300 feet upstream of Clay Road | +892 | Unincorporated Areas of Cobb County, City of Austell, City of Marietta, City of Powder Springs.
| Approximately 225 feet downstream of Tower Road | +1082
Olley Creek | Approximately 2,525 feet upstream of confluence of Sweetwater Creek | +892 | Unincorporated Areas of Cobb County, City of Austell, City of Marietta.
| Approximately 50 feet downstream of Hill Street | +1069
Olley Creek Tributary | Approximately 350 feet downstream of Booth Road | +1001 | Unincorporated Areas of Cobb County, City of Marietta.
| Approximately 600 feet upstream of Brownstone Road | +1026
Piney Grove Creek | Just upstream of the Confluence with Sewell Mill Creek | +951 | Unincorporated Areas of Cobb County.
| Just downsteam of Davis Road | +1067
Pitner Creek | Approximately 800 feet upstream of confluence of Little Allatoona Creek | +890 | Unincorporated Areas of Cobb County.
| Approximately 425 feet upstream of Fords Road | +997
Poorhouse Creek | Just upstream of the confluence with Rottenwood Creek | +928 | Unincorporated Areas of Cobb County, City of Marietta.
| Approximately 4,800 feet upstream of Cobb Parkway | +954
Poplar Creek | Just upstream of confluence with Rottenwood Creek | +880 | Unincorporated Areas of Cobb County, City of Smyrna.
| Just upstream of PineCrest Circle | +1011
Powder Springs Creek | Approximately 2,100 feet upstream of C H James Parkway | +914 | Unincorporated Areas of Cobb County.
| Approximately 800 feet upstream of Macland Road | +941
Powers Creek | Just upstream of confluence with Rottenwood Creek | +933 | Unincorporated Areas of Cobb County.
| Approximately 200 feet upstream of Powers Ferry Road | +951
Proctor Creek | Approximately 1,950 feet upstream of Old Highway 41 | +865 | Unincorporated Areas of Cobb County, City of Acworth, City of Kennesaw.
| Just upstream of Jiles Road | +948
Queen Creek | Approximately 175 feet downstream of Queens River Drive | +767 | Unincorporated Areas of Cobb County.
| Approximately 225 feet upstream of Mableton Drive | +997
Robertson Creek | Just upstream of the Confluence with Sewell Mill Creek | +923 | Unincorporated Areas of Cobb County.
| Approximately 600 feet upstream of Benson Drive | +1019
Rottenwood Creek | Approximately 500 feet upstream of the confluence with the Chattahoochee River | +789 | Unincorporated Areas of Cobb County, City of Marietta.
| Just upstream of Fairground Street | +1052
Rubes Creek | Approximately 2,800 feet upstream of confluence of Trickum Creek | +896 | Unincorporated Areas of Cobb County.
| Approximately 130 feet upstream of Saxony Glen | +1075
Rubes Creek Tributary | Just upstream of Confluence with Rubes Creek | +918 | Unincorporated Areas of Cobb County.
| Approximately 750 feet upstream of Keheley Road | +986
Sewell Mill Creek | Just Upsteam of Greenfield Drive | +921 | Unincorporated Areas of Cobb County, City of Smyrna.
| Just upstream of Karen Lane | +1084
Smyrna Branch | Approximately 450 feet downstream of Cobb Drive | +933
| Approximately 175 feet upstream of Powder Springs Street | +997
Sope Branch | Just upstream of Confluence with Sope Creek | +1023 | City of Marietta.
| Approximately 300 feet upstream of Sequoia Road | +1088
Sope Creek | Just upstream of confluence with the Chattahoochee River | +808 | Unincorporated Areas of Cobb County, City of Marietta.
| Approximately 1,025 feet upstream of Fairground Street | +1042
Tanyard Creek | Approximately 1,275 feet upstream of Lake Acworth Drive | +864 | Unincorporated Areas of Cobb County, City of Acworth.
| Approximately 300 feet downstream of Baker Plantation Drive | +919
Theater Branch | Approximately 125 feet upstream of Old Concord Road | +929 | Unincorporated Areas of Cobb County, City of Smyrna.
| Just downstream of Parkway Drive | +973
Thompson Creek | Just upstream of the Confluence with Sewell Mill Creek | +934 | Unincorporated Areas of Cobb County.
| Just upstream of Pine Road | +965
Trickum Creek | Just upstream of Confluence with Rubes Creek | +911 | Unincorporated Areas of Cobb County.
| Approximately 400 feet upstream of Pete Shaw Road | +1054
Trickum Creek Tributary | Just upstream of confluence with Trickum Creek | +935 | Unincorporated Areas of Cobb County.
| Just downstream of Jims Road | +1108
Ward Creek | Approximately 600 feet upstream of Ernest Barrett Parkway | +926 | Unincorporated Areas of Cobb County, City of Marietta.
| Approximately 50 feet downstream of Northcutt Street | +1050
Westside Branch | At confluence with Ward Creek | +1016 | City of Marietta.
| Approximately 500 feet upstream of the confluence with Ward Creek | +1016
Wildhorse Creek | At Confluence with Noses Creek | +907 | Unincorporated Areas of Cobb County, City of Powder Springs.
| Just downstream of Macedonia Road | +907
Wildwood Branch | Just upstream of the confluence with Sope Creek | +985 | Unincorporated Areas of Cobb County, City of Marietta.
| Approximately 300 feet downstream of Varner Road | +1027
* National Geodetic Vertical Datum.
+ North American Vertical Datum.
# Depth in feet above ground.
ADDRESSES
City of Acworth
Maps are available for inspection at City Hall, 4415 Senator Russell Avenue, Acworth, GA 30101.
City of Austell
Maps are available for inspection at 2716 Broad Street, SW, Austell, GA 30106.
City of Kennesaw
Maps are available for inspection at 2529 J.O. Stephenson Avenue, Kennesaw, GA 30144.
City of Marietta
Maps are available for inspection at Development and Inspection Department, 205 Lawrence Street, Marietta, GA 30060.
City of Powder Springs
Maps are available for inspection at City Hall, 4484 Marietta Street, Powder Springs, GA 30127.
City of Smyrna
Maps are available for inspection at City Hall, 2800 King Street, Smyrna, GA 30080.
Unincorporated Areas of Cobb County
Maps are available for inspection at 100 Cherokee Street, Marietta, GA 30090.
Labette County, Kansas, and Incorporated Areas | Docket No.: FEMA-D-7826
Bachelor Creek | Approximately 0.81 mile upstream of confluence with Labette Creek | +855 | Unincorporated Areas of Labette County.
| Approximately 1.4 miles upstream of Ness Road | +888
Labette Creek | Approximately 0.74 mile downstream of Southern Avenue | +864 | City of Parsons, Unincorporated Areas of Labette County.
| Approximately 2.2 miles upstream of MKT Railroad | +892
Labette Creek | Approximately 0.38 mile downstream of confluence with Bachelor Creek | +855 | Unincorporated Areas of Labette County.
| Approximately 3.03 miles upstream of confluence with Bachelor Creek | +858
Labette Creek Tributary A | Approximately 0.95 mile downstream of Rooks Road | +856 | Unincorporated Areas of Labette County.
| Approximately 0.44 mile upstream of Rooks Road | +866
Labette Creek Tributary B | Approximately 0.75 mile upstream of confluence with Labette Creek | +859 | Unincorporated Areas of Labette County.
| Approximately 1.07 miles upstream of Queens Road | +888
Little Labette Creek | Approximately 0.27 mile downstream of MKT Railroad | +865 | City of Parsons, Unincorporated Areas of Labette County.
| Approximately 0.45 mile upstream of U.S. Highway 160 | +907
Little Labette Creek Tributary A | Approximately 0.19 mile upstream of confluence with Little Labette Creek | +885 | Unincorporated Areas of Labette County.
| Approximately 1.30 miles upstream of Meade Road | +903
Little Labette Creek Tributary B | Approximately 500 feet upstream of confluence with Little Labette Creek | +897 | Unincorporated Areas of Labette County.
| Approximately 0.23 mile upstream of U.S. Highway 160 | +903
Tolen Creek | Approximately 0.38 mile upstream of confluence with Labette Creek | +880 | City of Parsons, Unincorporated Areas of Labette County.
| Approximately 0.32 mile upstream of Pratt Road | +891
Tolen Creek Tributary A | Approximately 0.11 mile upstream of confluence of Tolen Creek | +883 | City of Parsons, Unincorporated Areas of Labette County.
| Appromimately 1.46 miles upstream of U.S. Highway 160 | +901
* National Geodetic Vertical Datum.
+ North American Vertical Datum.
# Depth in feet above ground.
ADDRESSES
City of Parsons
Maps are available for inspection at 112 South 17th Street, Parsons, KS 67357.
Unincorporated Areas of Labette County
Maps are available for inspection at 501 Merchant Street, Oswego, KS 67356.
Jefferson County, Tennessee, and Incorporated Areas | Docket No.: FEMA-B-7751
Douglas Lake | Approximately 5,100 feet upstream of confluence of Leadvale Creek | +1002 | Unincorporated Areas of Jefferson County, City of Baneberry, Town of Dandridge.
| At Sevier/Jefferson county boundary | +1002
Mossy Creek | Approximately 2,200 feet downstream of Russell Avenue | +1075 | Unincorporated Areas of Jefferson County, Town of Jefferson City.
| Approximately 1,050 feet downstream of Russell Avenue | +1075
* National Geodetic Vertical Datum.
+ North American Vertical Datum.
# Depth in feet above ground.
ADDRESSES
City of Baneberry
Maps are available for inspection at 667 Harrison Ferry Road, Baneberry, TN 37890.
Town of Dandridge
Maps are available for inspection at P.O. Box 249, Dandridge, TN 37725.
Town of Jefferson City
Maps are available for inspection at P.O. Box 530, 112 West Broadway Boulevard, Jefferson City, TN 37760.
Unincorporated Areas of Jefferson County
Maps are available for inspection at P.O. Box 710, 214 West Main Street, Dandridge, TN 37725.
Lawrence County, Tennessee, and Incorporated Areas | Docket No.: FEMA-B-7748
Buffalo River | Approximately 1,028 feet upstream of confluence of Saw Creek | +792 | Unincorporated Areas of Lawrence County.
| Approximately 2,040 feet upstream of State Highway 240 | +812
Shoal Creek | At New Shoal Creek Dam | +759 | Unincorporated Areas of Lawrence County.
| Approximately 8,540 feet downstream of Old Waynesboro Highway | +787
* National Geodetic Vertical Datum.
+ North American Vertical Datum.
# Depth in feet above ground.
ADDRESSES
Unincorporated Areas of Lawrence County
Maps are available for inspection at 240 West Gaines Street, Lawrenceburg, TN 38464.

(Catalog of Federal Domestic Assistance No. 97.022, Flood Insurance.)

Dated: June 25, 2008.
David I. Maurstad,
Federal Insurance Administrator of the National Flood Insurance Program, Department of Homeland Security, Federal Emergency Management Agency.

[FR Doc. E8-15121 Filed 7-2-08; 8:45 am]

BILLING CODE 9110-12-P